DEPARTMENT OF ENERGY

Federal Energy Regulatory Commission

[Project No. 5728-021]

Sandy Hollow Hydroelectric Company, Inc.; Notice of Application Tendered for Filing With the Commission and Soliciting Additional Study Requests and Establishing Procedural Schedule for Relicensing and a Deadline for Submission of Final Amendments

Take notice that the following hydroelectric application has been filed with the Commission and is available for public inspection.

a. Type of Application: Subsequent Minor License.

b. Project No.: 5728-021.

c. Date filed: March 1, 2021.

d. Applicant: Sandy Hollow Hydroelectric Company, Inc. (Sandy Hollow Hydro).

e. Name of Project: Sandy Hollow Hydroelectric Project.

f. Location: On the Indian River, in the Town of Philadelphia in Jefferson County, New York. The project does not occupy any federal land.

g. Filed Pursuant to: Federal Power Act 16 U.S.C. 791(a)-825(r).

h. Applicant Contact: Ms. Kelly Sackheim, 32151 Sandy Hollow Road, Philadelphia, NY 13673; (916) 877-5947; sandyhollow@kchydro.com.

i. FERC Contact: Chris Millard at (202) 502-8256, or christopher.millard@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: April 30, 2021.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Sandy Hollow Hydroelectric Project (P-5728-021).

m. The application is not ready for environmental analysis at this time.

n. Project Description: The existing Sandy Hollow Hydroelectric Project consists of (1) a 20-acre reservoir at a normal pool elevation of 419.1 feet National Geodetic Vertical Datum of 1929; (2) a main 106-foot-long concrete gravity dam with a maximum height of 25 feet that includes a 55-foot-long spillway, and three 3- to 4-foot-high concrete diversion spillway dams that are 21 feet, 46 feet and 64 feet long, respectively; (3) a 23-foot-long by 23-foot-wide brick and concrete powerhouse containing a 150-kilowatt (kW), a 265-kW, and a 400-kW turbine-generator unit; (4) two 12- to 15-foot-long, 6-foot-diameter steel penstocks, with one penstock that bifurcates before joining the two turbine units; (5) two trash racks; (6) a 400-foot-long tailrace channel; (7) a 480-volt, 300-foot-long transmission line connecting to a 480-volt to 23-kilovolt step-up transformer at a nearby substation; and (8) appurtenant facilities. The average annual generation was 933 megawatt-hours between 2012 and 2017.

The project is operated in a run-of-river mode and discharges a minimum flow of 35 cubic feet per second (cfs) or inflow to the reservoir, whichever is less, into the project's bypassed reach for the protection and enhancement of aquatic resources.

As part of the license application, Sandy Hollow Hydro filed a settlement agreement entered into between itself, the U.S. Fish and Wildlife Service, and the New York State Department of Environmental Conservation. As part of the settlement agreement, Sandy Hollow Hydro proposes to: (1) Continue to operate the project in a run-of-river mode; (2) provide a year-round minimum flow in the bypassed reach of 35 cfs, or inflow, whichever is less; (3) continue the existing stream flow and water level monitoring; (4) maintain the existing trash rack on turbine unit 3 with 1-inch clear spacing and, within 5 years of any license issued for the project, install trash racks with either 1-inch clear spacing or the equivalent (e.g., an overlay-type system) on turbine units 1 and 2; (5) within 3 years of the effective date of any license issued for the project, install and maintain a year-round downstream fish passage structure at one of the three diversion spillway dams; (6) maintain the existing portage trail; and (7) implement the Invasive Species Management Plan filed with the final license application.

o. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-5728). At this time, the Commission has suspended access to the Commission's Public Reference Room due to the proclamation declaring a National Emergency concerning the Novel Coronavirus Disease (COVID-19) issued by the President on March 13, 2020. For assistance, contact FERC at FERCOnlineSupport@ferc.gov or call toll-free, (866) 208-3676 or (202) 502-8659 (TTY).

You may also register online at https://ferconline.ferc.gov/FERCOnline.aspx to be notified via email of new filings and issuances related to this or other pending projects. For assistance, contact FERC Online Support.

p. Procedural schedule: The application will be processed according to the following preliminary schedule. Revisions to the schedule will be made as appropriate.

Issue Deficiency Letter (if necessary) | April 2021
Request Additional Information | April 2021
Issue Acceptance Letter | July 2021
Issue Scoping Document 1 for comments | August 2021
Request Additional Information (if necessary) | October 2021
Issue Scoping Document 2 | November 2021
Issue Notice of Ready for Environmental Analysis | November 2021

q. Final amendments to the application must be filed with the Commission no later than 30 days from the issuance date of the notice of ready for environmental analysis.

Dated: March 10, 2021.
Kimberly D. Bose,
Secretary.

[FR Doc. 2021-05389 Filed 3-15-21; 8:45 am]

BILLING CODE 6717-01-P